CONSUMER PRODUCT SAFETY COMMISSION

Sunshine Act Meeting Notice

TIME AND DATE: Wednesday, July 27, 2022; 10:00-11:00 a.m.

PLACE: This meeting will be held remotely.

STATUS: Commission Meeting—Open to the Public.

MATTERS TO BE CONSIDERED: Briefing Matter: CPSC's Draft Strategic Plan 2023-2026

All attendees should pre-register for the Commission meeting using the following link: https://cpsc.webex.com/cpsc/onstage/g.php?MTID=e7e1a85f0cc0d441beb2fbb9bfaa136de.

After registering you will receive a confirmation email containing information about joining the meeting.

CONTACT PERSON FOR MORE INFORMATION: Alberta E. Mills, Office of the Secretary, U.S. Consumer Product Safety Commission, 4330 East West Highway, Bethesda, MD 20814, 301-504-7479 (Office) or 240-863-8938 (Cell).

Dated: July 21, 2022.
Alberta E. Mills,
Commission Secretary.

[FR Doc. 2022-16057 Filed 7-22-22; 11:15 am]

BILLING CODE 6355-01-P